DEPARTMENT OF HEALTH AND HUMAN SERVICES

Centers for Disease Control and Prevention

Disease, Disability, and Injury Prevention and Control Special Emphasis Panel (SEP): Sexually Transmitted Disease (STD) Faculty Expansion Program, Program Announcement #02005

In accordance with section 10(a)(2) of the Federal Advisory Committee Act (Pub. L. 92-463), the Centers for Disease Control and Prevention (CDC) announces the following meeting.

Name: Disease, Disability, and Injury Prevention and Control Special Emphasis Panel (SEP): Sexually Transmitted Disease (STD) Faculty Expansion Program, Program Announcement #02005.

Times and Date: 9 a.m.-9:30 a.m., November 29, 2001 (Open). 9:30 a.m.-4:30 p.m., November 29, 2001 (Closed).

Place: Centers for Disease Control and Prevention, National Center for HIV, STD, and TB Prevention, 10 Corporate Square Blvd, Conference Room 1304, Atlanta, Georgia 30329.

Status: Portions of the meeting will be closed to the public in accordance with provisions set forth in section 552b(c)(4) and (6), Title 5 U.S.C., and the Determination of the Deputy Director for Program Management, CDC, pursuant to Pub. L. 92-463.

Matters to be Discussed: The meeting will include the review, discussion, and evaluation of applications received in response to Program Announcement 02005.

CONTACT PERSON FOR MORE INFORMATION: Elizabeth A. Wolfe, Prevention Support Office, National Center for HIV, STD, and TB Prevention, CDC, Corporate Square Office Park, 8 Corporate Square Boulevard, M/S E07, Atlanta, Georgia 30329, telephone 404/639-8025.

The Director, Management Analysis and Services office has been delegated the authority to sign Federal Register notices pertaining to announcements of meetings and other committee management activities, for both the Centers for Disease Control and Prevention and the Agency for Toxic Substances and Disease Registry.

Dated: November 2, 2001.
John C. Burckhardt,
Acting Director, Management Analysis and Services Office, Centers for Disease Control and Prevention CDC.

[FR Doc. 01-28436 Filed 11-13-01; 8:45 am]

BILLING CODE 4163-18-P